DEPARTMENT OF TRANSPORTATION

Coast Guard

33 CFR Part 165

[CGD01-01-135]

RIN 2115-AA97

Security Zone; Arthur Kill, Staten Island, NY

AGENCY: Coast Guard, DOT.

ACTION: Temporary final rule.

SUMMARY: The Coast Guard is establishing a temporary security zone around Howland Hook Terminal in the Arthur Kill during loading operations for military equipment. This action is necessary to protect the Port of New York/New Jersey against terrorism, sabotage or other subversive acts and incidents of a similar nature during the U.S. Army's ship loading operations. This action is intended to restrict vessel traffic in a portion of the Arthur Kill.

DATES: This rule is effective from 6 a.m. on August 14, until 8 p.m. on August 18, 2001.

ADDRESSES: Documents indicated in this preamble as being available in the docket, are part of docket (CGD01-01-135) and are available for inspection or copying at Coast Guard Activities New York, 212 Coast Guard Drive, room 204, Staten Island, New York 10305, between 8 a.m. and 3 p.m., Monday through Friday, except Federal holidays.

FOR FURTHER INFORMATION CONTACT: Lieutenant M. Day, Waterways Oversight Branch, Coast Guard Activities New York, 718-354-4012.

SUPPLEMENTARY INFORMATION:

Regulatory Information

We did not publish a notice of proposed rulemaking (NPRM) for this regulation. Under 5 U.S.C. 553(b)(B), the Coast Guard finds that good cause exists for not publishing an NPRM, and that under 5 U.S.C. 553(d)(3), good cause exists for making this rule effective less than 30 days after publication in the Federal Register.

Due to the date that specific information on the ship loading operations was made available to the Coast Guard, there was insufficient time to draft and publish an NPRM before its effective date. The delay encountered if normal rulemaking procedures were followed would be contrary to the public interest, as immediate action is needed to protect the Port of New York/New Jersey and the U.S. Army's ship loading operations.

Background and Purpose

This security zone is needed to ensure the security of the Port of New York/New Jersey and the military equipment loading operations on the Arthur Kill at Howland Hook Terminal, Staten Island, NY. There is a significant national security interest in protecting the U.S. Army's ship loading operations. This security zone will safeguard the Port of New York/New Jersey, against terrorism, sabotage or other subversive acts and incidents of a similar nature during the U.S. Army's ship loading operations.

The security zone includes all waters of the Arthur Kill bound by the following points: 40°38′36.1″N 074°11′10.3″W; thence to 40°38′36.9″N 074°11′13.6″W; thence to 40°38′26.3″N 074°11′29.4″W; thence to 40°38′17.5″N 074°11′37.6″W; thence to 40°38′16.7″N 074°11′35.8″W (NAD 1983); thence along the shoreline to the point of beginning. This security zone is effective from 6 a.m. on Tuesday, August 14, until 8 p.m. on Saturday, August 18, 2001. The U.S. Army only anticipates requiring the activation of this security zone during two 8-hour periods of the zones' effective dates. Exact dates and times will be made available via marine information broadcasts once the U.S. Army makes them available to the U.S. Coast Guard.

This security zone is based on the security needs for the Port of New York/New Jersey and the U.S. Army. It has been narrowly tailored to impose the least impact on maritime interests yet provide the level of security deemed necessary. This safety zone does not affect the Federal navigation channel west of Howland Hook Terminal. Entry into or movement within this security zone is prohibited unless authorized by the Coast Guard Captain of the Port, New York.

Regulatory Evaluation

This rule is not a “significant regulatory action” under section 3(f) of Executive Order 12886, Regulatory Planning and Review, and does not require an assessment of potential costs and benefits under section 6(a)(3) of that Order. The Office of Management and Budget has not reviewed it under that Order. It is not “significant” under the regulatory policies and procedures of the Department of Transportation (DOT) (44 FR 11040, February 26, 1979).

The Coast Guard expects the economic impact of this final rule to be so minimal that a full Regulatory Evaluation under paragraph 10e of the regulatory policies and procedures of DOT is unnecessary. This finding is based on the minimal time that vessels will be restricted from the zone, that vessels may still transit through the Arthur Kill during the zones' activation, vessels will not be precluded from mooring at or getting underway from commercial or recreational piers in the vicinity of the zone, and extensive advance notifications which will be made.

The U.S. Army only anticipates requiring the activation of this security zone during two 8-hour periods of the zones' effective dates. Exact dates and times will be made available via marine information broadcasts once the U.S. Army makes them available to the U.S. Coast Guard.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This rule will affect the following entities, some of which may be small entities: the owners or operators of vessels intending to transit or anchor in a portion of the Arthur Kill during the time this zone is activated.

This security zone will not have a significant economic impact on a substantial number of small entities for the following reasons. Marine traffic will still be able to transit through the Arthur Kill during the zones' activation. Additionally, vessels will not be precluded from mooring at or getting underway from commercial or recreational piers in the vicinity of the zone. Public notifications will be made prior to the event via Marine Information Broadcasts, which are widely available to users of the Arthur Kill.

The U.S. Army only anticipates requiring the activation of this security zone during two 8-hour periods of the zones' effective dates. Exact dates and times will be made available via marine information broadcasts once the U.S. Army makes them available to the U.S. Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

The Coast Guard considered the environmental impact of this rule and concluded that under figure 2-1, paragraph 34(g), of Commandant Instruction M16475.1D, this rule is categorically excluded from further environmental documentation. This rule fits paragraph 34(g) as it establishes a security zone. A “Categorical Exclusion Determination” is available in the docket for inspection or copying where indicated under ADDRESSES.

List of Subjects in 33 CFR Part 165

Harbors, Marine safety, Navigation (water), Reporting and recordkeeping requirements, Security measures, Waterways.

Regulation

For the reasons discussed in the preamble, the Coast Guard amends 33 CFR part 165 as follows:

PART 165—REGULATED NAVIGATION AREAS AND LIMITED ACCESS AREAS

1. The authority citation for part 165 continues to read as follows:

Authority: 33 U.S.C. 1231; 50 U.S.C. 191, 33 CFR 1.05-1(g), 6.04-1, 6.04-6, 160.5; 49 CFR 1.46.

2. Add temporary § 165.T01-135 to read as follows:

§ 165.T01-135 Security Zone: Arthur Kill, Staten Island, NY.

(a) Location. The following area is a security zone: All waters of the Arthur Kill bound by the following points: 40°38′36.1″N 074°11′10.3″W; thence to 40°38′36.9″N 074°11′13.6″W; thence to 40°38′26.3″N 074°11′29.4″W; thence to 40°38′17.5″N 074°11′37.6″W; thence to 40°38′16.7″N 074°11′35.8″W (NAD 1983); thence along the shoreline to the point of beginning.

(b) Effective period. This section is effective from 6 a.m. on Tuesday, August 14, until 8 p.m. on Saturday, August 18, 2001.

(c) Regulations. (1) The general regulations contained in 33 CFR 165.33 apply.

(2) All persons and vessels shall comply with the instructions of the Coast Guard Captain of the Port or the designated on-scene-patrol personnel. These personnel comprise commissioned, warrant, and petty officers of the Coast Guard. Upon being hailed by a U. S. Coast Guard vessel by siren, radio, flashing light, or other means, the operator of a vessel shall proceed as directed.

Dated: August 8, 2001.
P. A. Harris,
Captain, U. S. Coast Guard Captain of the Port, New York, Acting.

[FR Doc. 01-20720 Filed 8-16-01; 8:45 am]

BILLING CODE 4910-15-U